DEPARTMENT OF ENERGY

Federal Energy Regulatory Commission

[Docket Nos. RT01-85-000, RT01-83-000, RT01-82-000, and RT01-92-000]

California Independent System Operator Corporation, Pacific Gas and Electric Company, San Diego Gas & Electric Company, Southern California Edison Company; Notice of Filing

June 4, 2001.

Take notice that on June 1, 2001, the California Independent System Operator Corporation (ISO), Southern California Edison Company (SoCal Edison), and San Diego Gas & Electric Company (SDG&E), jointly, and Pacific Gas and Electric Company (PG&E), individually, tendered filings in compliance with the Commission's April 26, 2001 Order in Docket Nos. EL00-95-012, et al. San Diego Gas & Electric Company, et al., 95 FERC ¶ 61,115 (2001), reh'g pending. The April 26 Order required the ISO, SoCal Edison, SDG&E, and PG&E to file a proposal for a regional transmission organization (RTO).

The ISO, SoCal Edison, SDG&E, and PG&E state that the filings have been served on all parties on the official service list maintained by the Secretary for above-captioned dockets.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 19, 2001. Protests will be considered by the Commission to determine the appropriate action to be taken, but will not serve to make protestants parties to the proceedings. Any person wishing to become a party must file a motion to intervene. Copies of this filing are on file with the Commission and are available for public inspection. This filing may also be viewed on the Internet at ­http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-14559 Filed 6-8-01; 8:45 am]

BILLING CODE 6717-01-M